LEGAL SERVICES CORPORATION

Sunshine Act Meeting of the Board of Directors

Time and Date: The Board of Directors of the Legal Services Corporation will meet April 25, 2003, from 10 a.m. until 12:30 p.m. and continue on April 26, 2003, at 9:30 a.m. until conclusion of the Board's agenda.

Location: The Bishop's Lodge, Bishop's Lodge Road, Santa Fe, New Mexico.

Status of Meeting: Open, except that a portion of the meeting may be closed pursuant to a vote of the Board of Directors to hold an executive session. At the closed session, the Corporation's General Counsel will report to the Board on litigation to which the Corporation is or may become a party, and the Board may act on the matters reported. The closing is authorized by the relevant provisions of the Government in the Sunshine Act (5 U.S.C. 552b(c) (10)) and the corresponding provisions of the Legal Services Corporation's implementing regulation (45 CFR 1622.5(h)). A copy of the General Counsel's Certification that the closing is authorized by law will be available upon request.

Matters to be Considered:

Open Session

1. Approval of agenda.

2. Election of Temporary Chair and Vice Chair.

3. Update by Randi Youells, LSC Vice President for Programs, on LSC's Performance Measurement Activities: The State Planning Evaluation Instrument and Activities to Assess the Desirability of Developing a System to Measure Outcomes for Clients.

4. Presentation by Randi Youells on LSC Reports on the Rural Issues and Delivery Conference, the Technology Initiative Grant Program, and the Trainer Training for the LSC Diversity Initiative.

5. Delivery of Legal Services in New Mexico: Panel presentation with Sarah Singleton, former co-chair of the State Bar of New Mexico's Legal Services & Programs Committee; John Arango, Executive Director, New Mexico Legal Aid; Olga Pedroza, Supervising Attorney, Migrant Program, New Mexico Legal Aid; Kathleen Brockel, Executive Director, Law Access; Felicia Sanchez, Intern Paralegal and former client, New Mexico Legal Aid; and Ann Burnham, Client Volunteer, New Mexico Legal Aid Santa Fe Office.

6. Serving the Navajo Nation in New Mexico: Presentation by Anna Marie Johnson, Executive Director, DNA-People's Legal Services.

7. Approval of the minutes of the Board's meeting of February 1, 2003.

8. Approval of the minutes of the Executive Session of the Board's meeting of February 1, 2003.

9. Approval of the minutes of the Board's telephonic meeting of March 10, 2003.

10. Approval of the minutes of the Board's 2002 Annual Performance Reviews Committee's meeting of January 31, 2003.

11. Approval of the minutes of the Provision for the Delivery of Legal Services Committee's meeting of January 31, 2003.

12. Approval of the minutes of the Operations & Regulations Committee's meeting minutes of January 31, 2003.

13. Approval of the minutes of the Finance Committee's meeting of January 23, 2003.

14. Approval of the minutes of the Finance Committee's meeting of January 31, 2003.

15. Remarks by Special Guests: Representative Tom Udall, U.S. House of Representatives; Justice Pamela B. Minzer, Supreme Court of New Mexico; Joyce Pullen, Office of Senator Pete Domenici; John D. Robb, Of Counsel, Rodey, Dickason, Sloan, Akin & Robb, P.A.; Sarah Singleton, former co-chair of the State Bar of New Mexico's Legal Services & Program Committee; and Representatives from DNA-People's Legal Services' Board of Directors.

16. Chairman's Report.

17. Members' Report.

18. Acting Inspector General's Report.

19. President's Report.

20. Report by Mauricio Vivero, LSC Vice President for Governmental Relations & Public Affairs.

21. Report on LSC's Temporary Operating Budget, Expenses, and Other Funds Available through February 28, 2003.

22. Consider and act on the President's recommendation for FY 2003 Consolidated Operating Budget.

23. Comments of L. Jonathan Ross, Chairman of the ABA Standing Committee on Legal Aid and Indigent Defendants.

24. Consider and act on the Board's 2003 meeting schedule.

Closed Session

25. Briefing ¹ by the Inspector General on the activities of the Office of Inspector General.

¹ Any portion of the closed session consisting solely of staff briefings does not fall within the Sunshine Act's definition of the term “meeting” and, therefore, the requirements of the Sunshine Act do not apply to any such portion of the closed session. 5 U.S.C. 552(b)(a)(2) and (b). See also 45 CFR 1622.2 & 1622.3.

26. Consider and act on the Office of Legal Affairs' report on potential and pending litigation involving LSC.

Open Session

27. Consider and act on other business.

28. Public Comment.

Contact Person for Information: Victor M. Fortuno, Vice President for Legal Affairs, General Counsel & Corporate Secretary, at (202) 336-8800.

Special Needs: Upon request, meeting notices will be made available in alternate formats to accommodate visual and hearing impairments. Individuals who have a disability and need an accommodation to attend the meeting may notify Elizabeth S. Cushing, at (202) 336-8800.

Dated: April 18, 2003.
Victor M. Fortuno,
Vice President for Legal Affairs, General Counsel & Corporate Secretary.

[FR Doc. 03-10065 Filed 4-18-03; 2:25 pm]

BILLING CODE 7050-01-P